DEPARTMENT OF TRANSPORTATION

Federal Aviation Administration

14 CFR Part 71

[Docket No. FAA-2024-2672; Airspace Docket No. 24-ASW-13]

RIN 2120-AA66

Amendment of VOR Federal Airways V-161, V-163, and V-568; and Establishment of United States RNAV Route T-545 in the Vicinity of Three Rivers, TX

AGENCY: Federal Aviation Administration (FAA), DOT.

ACTION: Final rule.

SUMMARY: This action amends Very High Frequency Omnidirectional Range (VOR) Federal Airways V-161, V-163, and V-568; and establishes United States Area Navigation (RNAV) Route T-545. The FAA is taking this action due to the planned decommissioning of the VOR portion of the Three Rivers, TX (THX), VOR/Tactical Air Navigation (VORTAC) navigational aid (NAVAID). The Three Rivers VOR is being decommissioned in support of the FAA's VOR Minimum Operational Network (MON) program.

DATES: Effective date 0901 UTC, August 7, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System (NAS) as necessary to preserve the safe and efficient flow of air traffic.

History

The FAA published a NPRM for Docket No. FAA-2024-2672 in the Federal Register (89 FR 101545; December 16, 2024), proposing to amend VOR Federal Airways V-161, V-163, and V-568; and establish United States RNAV Route T-545 due to the planned decommissioning of the VOR portion of the Three Rivers, TX, VORTAC NAVAID. Interested parties were invited to participate in this rulemaking effort by submitting written comments on the proposal. No comments were received.

Incorporation by Reference

VOR Federal Airways are published in paragraph 6010(a) and United States Area Navigation Routes are published in paragraph 6011 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by amending VOR Federal Airways V-161, V-163, and V-568; and establishing United States RNAV Route T-545 due to the planned decommissioning of the VOR portion of the Three Rivers, TX, VORTAC NAVAID. The Air Traffic Service (ATS) route changes are described below.

V-161: Prior to this final rule, V-161 extended between the Three Rivers, TX, VORTAC and the Center Point, TX, VORTAC; between the Millsap, TX, VORTAC and the Tulsa, OK, VORTAC; and between the Butler, MO, VORTAC and the Gopher, MN, VORTAC. The airway segment between the Three Rivers VORTAC and the Center Point VORTAC is removed. As amended, the airway is changed to now extend between the Millsap VORTAC and the Tulsa VORTAC, and between the Butler VORTAC and the Gopher VORTAC.

V-163: Prior to this final rule, V-163 extended between the Matamoros, Mexico, VOR/Distance Measuring Equipment (VOR/DME) and the Gooch Springs, TX, VORTAC, excluding the airspace within Mexico. The airway is amended by removing the Three Rivers, TX, VORTAC and the intersection of the Three Rivers VORTAC 345° and San Antonio, TX, VORTAC 168° radials (YENNS Fix) route points and replacing them with a new route point at the intersection of the Corpus Christi, TX, VORTAC 314° and San Antonio VORTAC 168° radials (SLENA Fix). Additionally, the airway width reduction between the Brownsville, TX, VORTAC and the Corpus Christi VORTAC is removed. As amended, the airway continues to extend between the Matamoros, Mexico, VOR/DME and the Gooch Springs VORTAC, excluding the airspace within Mexico.

V-568: Prior to this final rule, V-568 extended between the Corpus Christi, TX, VORTAC and the Stonewall, TX, VORTAC; and between the Millsap, TX, VORTAC and the Wichita Falls, TX, VORTAC. The airway segment between the Corpus Christi VORTAC and the San Antonio, TX, VORTAC is removed. As amended, the airway is changed to now extend between the San Antonio VORTAC and the Stonewall VORTAC, and between the Millsap VORTAC and the Wichita Falls VORTAC.

T-545: T-545 is a new United States RNAV route established by this rule to extend between the Brownsville, TX, VORTAC and the Gooch Springs, TX, VORTAC. The new route provides an RNAV alternative to the V-163 airway segment amendment between the Corpus Christi, TX, VORTAC and the San Antonio, TX, VORTAC. Additionally, the route provides positive RNAV navigational guidance for aircraft to remain clear of the Kingsville 4, TX, and the Randolph 1B, TX, Military Operations Areas.

The NAVAID radials listed in the VOR Federal Airway V-163 description in the regulatory text of this final rule are stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending VOR Federal Airways V-161, V-163, and V-568; and establishing United States RNAV Route T-545, due to the planned decommissioning of the VOR portion of the Three Rivers, TX, VORTAC NAVAID, qualifies for categorical exclusion under the National Environmental Policy Act (42 U.S.C. 4321, et seq.) and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-161 [Amended]

From Millsap, TX; Bowie, TX; Ardmore, OK; Okmulgee, OK; to Tulsa, OK. From Butler, MO; Napoleon, MO; Lamoni, IA; Des Moines, IA; Mason City, IA; Rochester, MN; Farmington, MN; to Gopher, MN.

* * * * *

V-163 [Amended]

From Matamoros, Mexico; Brownsville, TX; Corpus Christi, TX; INT Corpus Christi 314° and San Antonio, TX, 168° radials; San Antonio; to Gooch Springs, TX. The airspace within Mexico is excluded.

* * * * *

V-568 [Amended]

From San Antonio, TX; to Stonewall, TX. From Millsap, TX; to Wichita Falls, TX.

* * * * *

Paragraph 6011 United States Area Navigation Routes.

* * * * *

T-545 Brownsville, TX (BRO) to Gooch Springs, TX (AGJ) [New]
Brownsville, TX (BRO) | VORTAC | (Lat. 25°55′26.66″ N, long. 097°22′30.97″ W)
Corpus Christi, TX (CRP) | VORTAC | (Lat. 27°54′13.56″ N, long. 097°26′41.57″ W)
SLENA, TX | FIX | (Lat. 28°32′38.31″ N, long. 098°11′47.89″ W)
San Antonio, TX (SAT) | VORTAC | (Lat. 29°38′38.51″ N, long. 098°27′40.74″ W)
Gooch Springs, TX (AGJ) | VORTAC | (Lat. 31°11′07.82″ N, long. 098°08′30.69″ W)

* * * * *

Issued in Washington, DC.
Brian Eric Konie,
Manager (A), Rules and Regulations Group.

[FR Doc. 2025-08796 Filed 5-16-25; 8:45 am]

BILLING CODE 4910-13-P